DEPARTMENT OF ENERGY

Federal Energy Regulatory Commission

Notice of Intent to File an Application For a New License

February 15, 2000

a. Type of Filing: Notice of Intent to File An Application for a New License.

b. Project No.: 2169.

c. Date Filed: January 31, 2000.

d. Submitted By: Alcoa Power Generating Inc.—current licensee.

e. Name of Project: Tapoco Hydroelectric Project.

f. Location: On the Little Tennessee and Cheoah Rivers, in Graham and Swain Counties, North Carolina, and Blount and Monroe Counties, Tennessee.

g. Filed Pursuant to: Section 15 of the Federal Power Act.

h. Licensee Contact: Sue Fugate, Alcoa Power Generating Inc., Tapoco Division, 300 North Hall Road, Alcoa, TN 37701 (865) 977-3321.

i. FERC Contact: Ron McKitrick, ronald.mckitrick@ferc.fed.us, (770) 452-3778.

j. Effective date of current license: March 1, 1955.

k. Expiration date of current license: February 28, 2005.

l. Description of the Project: The project comprises four developments.

The Chilhowee Development consists of the following existing facilities: (1) a 91-foot-high, 1,483-foot-long concrete gravity dam comprised of a gated spillway section; (2) a 1,747-acre reservoir at a normal pool elevation of 874.0 feet msl; (3) a powerhouse, integral with the dam, containing three generating units with a total installed capacity of 50.5 MW; and (4) other appurtenances.

The Calderwood Development consists of the following existing facilities: (1) a 232-foot-high, 916-foot-long concrete arch dam comprised of a gated spillway section; (2) a 536-acre reservoir at a normal pool elevation of 1,087.5 feet msl; (3) a 26.5-foot-diameter, 2,147-foot-long concrete tunnel; (4) three 16-foot-diameter, 330 to 388-foot-long penstocks; (5) a powerhouse containing three generating units with a total installed capacity of 121.5 MW; and (6) other appurtenances.

The Cheoah Development consists of the following existing facilities: (1) a 225-foot-high, 750-foot-long concrete gravity dam comprised of a gated spillway section; (2) a 615-acre reservoir at a normal pool elevation of 1,276.5 feet msl; (3) a concrete tunnel consisting of four 13.5-foot-diameter, 886 to 922-foot-long penstocks; (4) a 17-foot-diameter, 513-foot-long penstock; (5) a powerhouse containing five generating units with a total installed capacity of 110 MW; and (6) other appurtenances.

The Santeetlah Development consists of the following existing facilities: (1) a 216-foot-high, 1,054-foot-long concrete gravity dam comprised of a gated spillway section; (2) a 2,863-acre reservoir at a normal pool elevation of 1,817 feet msl; (3) a 11-foot-diameter, 26,123-foot-long concrete tunnel; (4) a powerhouse containing two generating units with a total installed capacity of 45 MW; and (5) other appurtenances.

m. Each application for a new license and any competing license applications must be filed with the Commission at least 24 months prior to the expiration of the existing license. All applications for license for this project must be filed by February 28, 2003.

David P. Boergers,
Secretary.

[FR Doc. 00-4091 Filed 2-18-00; 8:45 am]

BILLING CODE 6717-01-M